DEPARTMENT OF AGRICULTURE

Rural Utilities Service

Georgia Transmission Corporation, Notice of Intent

AGENCY: Rural Utilities Service, USDA.

ACTION: Notice of intent to hold scoping meetings and prepare an environmental assessment.

SUMMARY: Notice is hereby given that the Rural Utilities Service (RUS) proposes to prepare environmental assessments related to possible financing assistance to Georgia Transmission Corporation for the construction of approximately 25 miles of 230 kV transmission line and 30 miles of 500 kV transmission line. The 230 kV transmission line project would be located in Heard and Carroll Counties, Georgia. The 500 kV transmission line would be located in Heard, Carroll, and Douglas Counties, Georgia.

DATES: RUS and Georgia Transmission Corporation will conduct a scoping meeting in an open house format from 3 P.M. until 8 P.M. on Thursday, November 15, 2001.

ADDRESSES: The meeting will be held at the Carrollton Parks Recreation and Cultural Arts Center in the Optimist Room located at 118 South White Street, in Carrollton, Georgia 30117, phone (770)-832-1161. The purpose of the meeting is to provide information to the public and solicit comments.

FOR INFORMATION CONTACT: Bob Quigel, Engineering and Environmental Staff, Rural Utilities Service, Stop 1571, 1400 Independence Avenue, SW., Washington, DC 20250-1571, telephone (202) 720-0468. Mr. Quigel's e-mail address is bquigel@rus.usda.gov. You can also contact Ms. Analee Mayes at Georgia Transmission Corporation at (770) 270-7030. Ms. Mayes' e-mail address is pbcntr1@gatrans.com.

SUPPLEMENTARY INFORMATION: Two separate transmission lines are being proposed. A separate environmental assessment will be prepared for each transmission line. Georgia Transmission Corporation proposes to construct a 230 kV transmission between the Yellowdirt Switching Station at Plant Wansley in Heard County to the proposed Hickory Level Substation in Carroll County. (The Hickory Level Substation is anticipated to be in service by 2002 as it is a needed system improvement regardless of the 230 kV transmission line described herein.) Concrete or steel single pole structures ranging in height from 90 to 130 feet would support the conductors and would require a right-of way of approximately 100 feet. The approximate length of the line is 25 miles. It is anticipated that this transmission line would be in service in the spring of 2004. Georgia Transmission Corporation proposes to construct a 500 kV transmission line from the existing substation at Plant Wansley in Heard County to the existing Villa Rica #2 Substation east of Villa Rica, in Douglas County. Lattice steel structures would be used to support the conductors for the length of the project. The heights of these structures typically range from 80 to 150 feet and require a right-of-way width of 180 feet. The approximate length of the line is 30 miles. It is anticipated that this transmission line would be in service by the spring of 2008.

Alternatives considered by RUS and Georgia Transmission Corporation include: (a) No action, (b) alternative transmission improvements, and (c) alternative transmission line corridors. An Alternative Evaluation Study and Macro Corridor Study Report, prepared by Georgia Transmission Corporation, will be presented at the public scoping meetings. The report is available for public review at RUS at the address provided in this notice, at Georgia Transmission Corporation, 2100 East Exchange Place, Tucker, Georgia 30085 and at:

Whitesburg City Hall, 788 Main Street, Whitesburg, GA 30185, Phone: 770-832-1184

Neva Lomason Memorial Library, 710 Rome Street, Carrollton, GA 30117, Phone: 770-836-6711

Villa Rica City Hall, 571 West Bankead Hwy., Villa Rica, GA 30180, Phone: 770-459-3656

Heard County Public Library, 564 Main Street, Franklin, GA, Phone: 706-675-6501

Villa Rica Public Library, 70 Horace Luther Dr., Villa Rica, GA 30180, Phone: 770-459-7012

Carrollton City Hall, 315 Bradley Street, Carrollton, GA 30117, Phone: 404-830-2000

Mr. Jim Veal, Roopville City Council, P.O. Box 410, Roopville, GA 30170, Phone: 770-854-7723

Government agencies, private organizations, and the public are invited to participate in the planning and analysis of the proposed project. Representatives from RUS and Georgia Transmission Corporation will be available at the scoping meetings to discuss RUS's environmental review process, describe the project, the need for the project, and macro corridors under consideration, and discuss the scope of environmental issues to be considered, answer questions, and accept oral and written comments. Written comments will be accepted for 30 days after the public scoping meeting. Written comments should be sent to RUS at the address provided in this notice.

From information provided in the alternative evaluation and site selection study, input that may be provided by government agencies, private organizations, and the public, Georgia Transmission Corporation will prepare an environmental analysis to be submitted to RUS for review. RUS will use the environmental analysis to determine the significance of the impacts of the project and may adopt it as its environmental assessment of the project. RUS' environmental assessment of the project would be available for review and comment for 30 days.

Should RUS determine, based on the environmental assessment of the project, that the impacts of the construction and operation of the plant would not have a significant environmental impact, it will prepare a finding of no significant impact. Public notification of a finding of no significant impact would be published in the Federal Register and in newspapers with a circulation in the project area.

Any final action by RUS related to the proposed project will be subject to, and contingent upon, compliance with environmental review requirements as prescribed by CEQ and RUS environmental policies and procedures.

Dated: October 23, 2001.
Glendon D. Deal,
Acting Director, Engineering and Environmental Staff.

[FR Doc. 01-27325 Filed 10-30-01; 8:45 am]

BILLING CODE 3410-15-P